DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 15, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Richmond County, Georgia (All Jurisdictions)
Docket No.: FEMA-B-1835
City of Augusta | Planning and Development Department, 535 Telfair Street, Suite 300, Augusta, GA 30901.
City of Blythe | Blythe Planning and Development Department, 535 Telfair Street, Suite 300, Augusta, GA 30901.
City of Hephzibah | Hephzibah Planning and Development Department, 535 Telfair Street, Suite 300, Augusta, GA 30901.
Mercer County, Missouri and Incorporated Areas
Docket No.: FEMA-B-1851
City of Princeton | City Hall, 507 West Main Street, Princeton, MO 64673.
Unincorporated Areas of Mercer County | Mercer County Courthouse, 802 East Main Street, Princeton, MO 64673.
Putnam County, Missouri and Incorporated Areas
Docket No.: FEMA-B-1851
City of Powersville | City Hall, 305 Main Street, Powersville, MO 64672.
City of Unionville | City Hall, 1611 Grant Street, Unionville, MO 63565.
Unincorporated Areas of Putnam County | Putnam County Courthouse, 1601 Main Street, Unionville, MO 63565.
Village of Lucerne | Putnam County Courthouse, 1601 Main Street, Unionville, MO 63565.
Sullivan County, Missouri and Incorporated Areas
Docket No.: FEMA-B-1851
City of Milan | City Hall, 212 East 2nd Street, Milan, MO 63556.
City of Newtown | City Hall, 127 West Broadway, Newtown, MO 64667.
City of Pollock | Sullivan County Courthouse, 109 North Main Street, Milan, MO 63556.
Unincorporated Areas of Sullivan County | Sullivan County Courthouse, 109 North Main Street, Milan, MO 63556.
Village of Osgood | Sullivan County Courthouse, 109 North Main Street, Milan, MO 63556.
Musselshell County, Montana and Incorporated Areas
Docket No.: FEMA-B-1842
City of Roundup | City Office, 34 3rd Avenue West, Roundup, MT 59072.
Unincorporated Areas of Musselshell County | Musselshell County Emergency Operations Center, 704 1st Street East, Roundup, MT 59072.
Petroleum County, Montana and Incorporated Areas
Docket No.: FEMA-B-1842
Unincorporated Areas of Petroleum County | Petroleum County Courthouse, Clerk and Recorder Office, 302 East Main Street, Winnett, MT 59087.
Rosebud County, Montana and Incorporated Areas
Docket No.: FEMA-B-1842
Unincorporated Areas of Rosebud County | Rosebud County Clerk and Recorders Office, 1200 Main Street, Forsyth, MT 59327.
Harris County, Texas and Incorporated Areas
Docket No.: FEMA-B-1551
City of Houston | Public Works and Engineering Department, Floodplain Management Office, 1002 Washington Avenue, 3rd Floor, Houston, Texas 77002.
Unincorporated Areas of Harris County | Harris County Engineering Department, Permit Division, 10555 Northwest Freeway, Suite 120, Houston, Texas 77092.

[FR Doc. 2019-14326 Filed 7-3-19; 8:45 am]

BILLING CODE 9110-12-P